DEPARTMENT OF STATE

[Public Notice 11142]

U.S. Department of State Advisory Committee on Private International Law: Notice of Annual Meeting

The Department of State's Advisory Committee on Private International Law (ACPIL) will hold its annual meeting on Tuesday, July 28, 2020. The meeting will be held in WebEx. The program is scheduled to run from 1:00 p.m. to 5:00 p.m.

During the meeting, we will discuss major developments in private international law over the past year, including the finalization of the Convention on the Recognition and Enforcement of Foreign Judgments and the Singapore Convention on Mediation. We will also discuss expected work in the area of international family law in the coming year and seek comments on the draft Code of Conduct for Adjudicators in Investor-State Dispute Settlement, prepared jointly by the secretariats of United Nations Commission on International Trade Law (UNCITRAL) and the International Centre for the Settlement of Investment Disputes (ICSID). Finally, we will be seeking input from members on possible future projects for the United Nations Commission on International Trade Law (UNCITRAL) and United Nations International Institute for Unification of Private Law (UNIDROIT). If time allows other topics of interest could be discussed.

Members of the public may attend this virtual session and will be permitted to participate in the question and answer discussion period following the formal ACPIL presentation on each agenda topic in accordance with the Chair's instructions. Members of the public may also submit a brief statement (less than three pages) or comments to the committee in writing for inclusion in the public minutes of the meeting to pil@state.gov. Virtual attendance is limited to 100 persons, so each member of the public that wishes to attend this session must provide: Name, contact information, and affiliation to Tricia Smeltzer at pil@state.gov, not later than July 14, 2020. When you register, please indicate whether you require captioning. The WebEx site and agenda will be forwarded to individuals who register by that time, up to the capacity of the meeting. Requests made after that date will be considered but might not be able to be fulfilled.

Zachary A. Parker,
Director, Office of Directives Management, Department of State.

[FR Doc. 2020-13193 Filed 6-18-20; 8:45 am]

BILLING CODE 4710-08-P